DEPARTMENT OF ENERGY

Federal Energy Regulatory Commission

Combined Notice of Filings No. 2

November 15, 2010.

Take notice that the Commission has received the following Natural Gas Pipeline Rate and Refund Report filings:

Docket Numbers: RP10-1311-001.

Applicants: El Paso Natural Gas Company.

Description: El Paso Natural Gas Company submits tariff filing per 154.203: Non-Conforming Agreements Compliance to be effective 10/18/2010.

Filed Date: 11/04/2010.

Accession Number: 20101104-5030.

Comment Date: 5 p.m. Eastern Time on Thursday, November 18, 2010.

Docket Numbers: RP10-1228-001.

Applicants: Midcontinent Express Pipeline LLC.

Description: Midcontinent Express Pipeline LLC submits tariff filing per 154.203: Compliance Filing in Docket No. RP10-1228 to be effective 11/1/2010.

Filed Date: 11/10/2010.

Accession Number: 20101110-5071.

Comment Date: 5 p.m. Eastern Time on Monday, November 22, 2010.

Docket Numbers: RP10-1236-001.

Applicants: Columbia Gas Transmission, LLC.

Description: Columbia Gas Transmission, LLC submits tariff filing per 154.203: NAESB V 1.9n Compliance 11.10.10 to be effective 9/17/2010.

Filed Date: 11/10/2010.

Accession Number: 20101110-5172.

Comment Date: 5 p.m. Eastern Time on Monday, November 22, 2010.

Docket Numbers: RP10-1244-001.

Applicants: Kinder Morgan Louisiana Pipeline LLC.

Description: Kinder Morgan Louisiana Pipeline LLC submits tariff filing per 154.203: Compliance Filing in Docket No. RP10-1244 to be effective 11/1/2010.

Filed Date: 11/10/2010.

Accession Number: 20101110-5089.

Comment Date: 5 p.m. Eastern Time on Monday, November 22, 2010.

Docket Numbers: RP10-1254-001.

Applicants: Crossroads Pipeline Company.

Description: Crossroads Pipeline Company submits tariff filing per 154.203: NAESB V 1.9 Compliance 11.10.10 to be effective 9/17/2010.

Filed Date: 11/10/2010.

Accession Number: 20101110-5161.

Comment Date: 5 p.m. Eastern Time on Monday, November 22, 2010.

Docket Numbers: RP10-1399-001.

Applicants: Dauphin Island Gathering Partners.

Description: Dauphin Island Gathering Partners submits tariff filing per 154.203: Negotiated Rates Correction Filing to be effective 10/1/2010 .

Filed Date: 11/10/2010.

Accession Number: 20101110-5150.

Comment Date: 5 p.m. Eastern Time on Monday, November 22, 2010.

Docket Numbers: RP10-1116-001.

Applicants: Steckman Ridge, LP.

Description: Steckman Ridge, LP submits tariff filing per 154.203: RP10-1116 Compliance Filing to be effective 11/1/2010.

Filed Date: 11/12/2010.

Accession Number: 20101112-5135.

Comment Date: 5 p.m. Eastern Time on Wednesday, November 24, 2010.

Docket Numbers: RP10-1120-001.

Applicants: Egan Hub Storage, LLC.

Description: Egan Hub Storage, LLC submits tariff filing per 154.203: RP10-1120 Compliance Filing to be effective 11/1/2010.

Filed Date: 11/12/2010.

Accession Number: 20101112-5136.

Comment Date: 5 p.m. Eastern Time on Wednesday, November 24, 2010.

Docket Numbers: RP10-1176-001.

Applicants: Southern Star Central Gas Pipeline, Inc.

Description: Southern Star Central Gas Pipeline, Inc. submits tariff filing per 154.203: NAESB 1.9 Correction Filing to be effective 10/20/2010.

Filed Date: 11/12/2010.

Accession Number: 20101112-5169.

Comment Date: 5 p.m. Eastern Time on Wednesday, November 24, 2010.

Docket Numbers: RP10-1205-001.

Applicants: Young Gas Storage Company, Ltd.

Description: Young Gas Storage Company, Ltd. submits tariff filing per 154.203: NAESB Compliance to be effective 11/1/2010.

Filed Date: 11/12/2010.

Accession Number: 20101112-5388.

Comment Date: 5 p.m. Eastern Time on Wednesday, November 24, 2010.

Docket Numbers: RP10-1214-001.

Applicants: Transwestern Pipeline Company, LLC.

Description: Transwestern Pipeline Company, LLC submits tariff filing per 154.203: TW NAESB 1.9 Compliance Filing to be effective 11/1/2010.

Filed Date: 11/12/2010.

Accession Number: 20101112-5272.

Comment Date: 5 p.m. Eastern Time on Wednesday, November 24, 2010.

Docket Numbers: RP10-1215-001.

Applicants: Black Marlin Pipeline Company.

Description: Black Marlin Pipeline Company submits tariff filing per 154.203: NAESB V 1.9—Second Compliance Filing to be effective 11/1/2010.

Filed Date: 11/12/2010.

Accession Number: 20101112-5174.

Comment Date: 5 p.m. Eastern Time on Wednesday, November 24, 2010.

Docket Numbers: RP10-1230-001.

Applicants: Cimarron River Pipeline, LLC.

Description: Cimarron River Pipeline, LLC submits tariff filing per 154.203: NAESB Correction Filing to be effective 11/1/2010.

Filed Date: 11/12/2010.

Accession Number: 20101112-5002.

Comment Date: 5 p.m. Eastern Time on Wednesday, November 24, 2010.

Docket Numbers: RP10-1238-002.

Applicants: Columbia Gulf Transmission Company.

Description: Columbia Gulf Transmission Company submits tariff filing per 154.203: NAESB V 1.9 Compliance 11.11.10 to be effective 9/17/2010.

Filed Date: 11/12/2010.

Accession Number: 20101112-5005.

Comment Date: 5 p.m. Eastern Time on Wednesday, November 24, 2010.

Docket Numbers: RP10-1335-001.

Applicants: Honeoye Storage Corporation.

Description: Honeoye Storage Corporation submits tariff filing per 154.203: Honeoye Storage Corporation, Volume No. 1A to be effective 11/1/2010.

Filed Date: 11/12/2010.

Accession Number: 20101112-5205.

Comment Date: 5 p.m. Eastern Time on Wednesday, November 24, 2010.

Docket Numbers: RP10-960-004.

Applicants: B-R Pipeline Company.

Description: B-R Pipeline Company submits tariff filing per 154.203: NAESB 1.9 compliance 2 to be effective 11/1/2010.

Filed Date: 11/12/2010.

Accession Number: 20101112-5323.

Comment Date: 5 p.m. Eastern Time on Wednesday, November 24, 2010.

Docket Numbers: RP10-961-004.

Applicants: USG Pipeline Company.

Description: USG Pipeline Company submits tariff filing per 154.203: NAESB 1.9 compliance 2 to be effective 11/1/2010.

Filed Date: 11/12/2010.

Accession Number: 20101112-5158.

Comment Date: 5 p.m. Eastern Time on Wednesday, November 24, 2010.

Docket Numbers: RP11-10-001.

Applicants: Destin Pipeline Company, L.L.C.

Description: Destin Pipeline Company, L.L.C. submits tariff filing per 154.203: NASEB 1.9 Compliance Filing 1 to be effective 11/1/2010.

Filed Date: 11/12/2010.

Accession Number: 20101112-5301.

Comment Date: 5 p.m. Eastern Time on Wednesday, November 24, 2010.

Docket Numbers: RP11-1429-001.

Applicants: Trans-Union Interstate Pipeline, L.P.

Description: Trans-Union Interstate Pipeline, L.P. submits tariff filing per 154.203: Trans-Union's Second Order No. 587 Compliance Filing to be effective 11/1/2010.

Filed Date: 11/12/2010.

Accession Number: 20101112-5182.

Comment Date: 5 p.m. Eastern Time on Wednesday, November 24, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-29320 Filed 11-19-10; 8:45 am]

BILLING CODE 6717-01-P